DEPARTMENT OF EDUCATION

[CFDA 84.060A]

Indian Education Formula Grants to Local Educational Agencies

AGENCY: Office of Elementary and Secondary Education, Office of Indian Education.

ACTION: Notice inviting applications for new and continuation awards for fiscal year (FY) 2001, Indian Education Formula Grants to Local Educational Agencies.

SUMMARY:

Purpose: The Indian Education Formula Grant program provides grants to support local educational agencies in their efforts to reform elementary and secondary school programs that serve Indian students. The programs funded are to be based on challenging State content standards and State student performance standards used for all students, and be designed to assist Indian students to meet those standards.

Eligible Applicants: Local educational agencies (LEAs) and certain schools funded by the Bureau of Indian Affairs, and Indian tribes under certain conditions.

Deadline for Transmittal of Applications: May 21, 2001.

Applications not meeting the deadline will not be considered for funding in the initial allocation of awards. However, if funds become available after the initial allocation of funds, applications not meeting the deadline may be considered for funding if the Secretary determines under section 9117(d) of the Elementary and Secondary Education Act of 1965, as amended, that reallocation of those funds to late applicants would best assist in advancing the purposes of the program. However, the amount and date of an individual award, if any is made under this provision, may be less that the applicant would have received had the application been submitted on time.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

The U.S. Department of Education is expanding its pilot project of electronic submission of applications to include certain formula grant programs, as well as additional discretionary grant competitions. The Indian Education Formula Grants to Local Educational Agencies, CFDA 84.060A, is one of the programs included in the pilot project. If you are an applicant under the Indian Education Formula Grants to Educational Agencies, you may submit your application to us in either electronic or paper format.

Note: Due to the Department's process for making awards to the Bureau of Indian Affairs (BIA), e-APPLICATION is not able to accept applications from schools directly operated by the BIA at this time. The Department hopes that in the future the software will be enhanced to accommodate BIA-operated schools. For more information on application procedures for BIA-operated schools, please contact the Office of Indian Education at 202-260-3774.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Fax a signed copy of the Application for Federal Assistance (ED 424), a completed Indian Student Count—LEA Total form, and a signed Parent Committee Approval form after following these steps:

1. Print the ED 424, Indian Student Count—LEA Total form, and Parent Committee Approval form from the e-APPLICATION system.

2. Make sure that the institution's Authorizing Representative signs the ED 424 and Indian Student Count—LEA Total form.

3. Obtain the signature(s) of the Parent Committee on the Parent Committee Approval form. (Note: Schools funded by the Bureau of Indian Affairs and Tribal applicants are not required to complete the Parent Committee Approval form.)

4. Before faxing these forms, submit your electronic application via the e-APPLICATION system. You will receive an automatic acknowledgement, which will include a PR/Award number (an identifying number unique to your application).

5. Place the PR/Award number in the upper right hand corner of ED 424.

6. Fax the ED 424, Indian Student Count—LEA Total form, and Parent Committee Approval form (if applicable) to Cathie Martin, Office of Indian Education at (202) 260-7779 within three working days of submitting your electronic application.

• We may request that you give us original signatures on all other forms at a later date.

You may access the electronic grant application for the Indian Education Formula Grants to Local Educational Agencies at: http://e-grants.ed.gov.

We have included additional information about the e-APPLICATION pilot project (see Parity Guidelines between Paper and Electronic Applications and Transmittal Instructions) in the application.

Note: Your e-APPLICATION must be submitted through the Internet using the software provided on the e-Grants Web Site (http://e-grants.ed.gov) by 4:30 p.m. (Washington, DC time) on the deadline date. All e-APPLICATION submissions that are attempted after that time on the closing date will not be accepted. Applicants that miss the e-APPLICATION submission time must print out their entire application (an original and two copies) and transmit hard copies of the application, following the transmittal procedures for mail or hand delivery, not later than midnight of the closing date. As no late e-APPLICATIONS are accepted, please note that the policy for possible funding of late applications (discussed elsewhere in this Notice) applies solely to hard copy applications.

Deadline for Intergovernmental Review: July 23, 2001.

Applications Available: April 4, 2001.

Available Funds: The appropriation for this program for fiscal year 2001 is $92,765,000, which should be sufficient to fund all eligible applicants.

Estimated Range of Awards: $3,000 to $1,900,000.

Estimated Average Size of Awards: $68,715.

Estimated Number of Awards: 1,275.

Note: The Department is not bound by any estimates in this notice.

Project Period: Up to 60 months.

Budget Requirement: All projects with budgets of $125,000 or more must plan and budget for one person to attend a two day Project Directors' meeting to be held in Washington, DC in September or October 2001. Other projects not meeting the level of funding specified may attend at their discretion.

Applicable Regulations: The Education Department General Administrative Regulations (EDGAR) in 34 CFR Parts 75, 77, 79, 80, 81, 82, 85, 86, 97, 98, and 99.

For Applications or Information Contact: Cathie Martin, Office of Indian Education, U.S. Department of Education, 400 Maryland Avenue, SW., Room 3W115, Washington, DC 20202-6335. Telephone: (202) 260-3774. Individuals who use a telecommunications device for the deaf (TDD) may call the Federal Information Relay Service (FIRS) at 1-800-877-8339.

Individuals with disabilities may obtain this document in an alternative format (e.g., Braille, large print, audiotape, or computer diskette) on request of the person listed in the preceding paragraph.

Individuals with disabilities may obtain a copy of the application package in an alternative format, also, by contacting that person. However, the Department is not able to reproduce in an alternative format the standard forms included in the application package.

Electronic Access to This Document

You may view this document, as well as all other Department of Education documents published in the Federal Register, in text or Adobe Portable Document Format (PDF) on the Internet at either of the following sites: http://ocfo.ed.gov/fedreg.htm; or http://www.ed.gov/news.html.

To use PDF you must have Adobe Acrobat Reader, which is available free at either of the previous sites. If you have questions about using the PDF, call the U.S. Government Printing Office toll free at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 7811.

Dated: March 19, 2001.
Thomas M. Corwin,
Acting Deputy Assistant Secretary for Elementary and Secondary Education.

[FR Doc. 01-7290 Filed 3-22-01; 8:45 am]

BILLING CODE 4000-01-U